DEPARTMENT OF STATE

[Public Notice No. 3220]

Secretary of State's Advisory Committee on Private International Law: Study Group on Jurisdiction and Judgments; Meeting Notice

There will be a public meeting of a study group of the Secretary of State's Advisory Committee on Private International Law on Friday, March 10, 2000, to discuss intellectual property issues related to the draft Hague convention on jurisdiction and the recognition and enforcement of foreign civil judgments. The meeting will be held from 9:30 am to 3: pm in room 1107 of the Department of State building, 2201 C St., NW, Washington DC 20520.

The purpose of the Study Group meeting is to assist the Department of State consider the position of the United States in negotiations at the Hague Conference on Private International Law for the development of a convention that would regulate jurisdiction in international cases and provide for the recognition and enforcement of certain resulting judgments. The meeting will consider the preliminary draft text of the convention, completed at the last round of intergovernmental negotiations in October 1999. The Department expects the Hague Conference to convene an international experts meeting to consider intellectual property aspects of the text possibly by mid-summer 2000.

Persons interested in the work of the study group or in attending the March 10 meeting in Washington may find a copy of the preliminary draft convention on the Department of State website: <www.state.gov>. The text may be found by clicking on “index,” “legal,” “private international law,” then “what's new.” Copies may also be requested from Ms. Rosie Gonzales by fax at 202-776-8482, by telephone at 202-776-8420 (you may leave your request, name, telephone number and mailing address on the answering machine), or by email at <pildb@his.com>.

The study group meeting is open to the public up to the capacity of the meeting room. As entry to the Department of State is controlled for security reasons, persons who wish to attend the meeting must notify Ms. Gonzales no later than Wednesday March 8 with their name, date of birth, and social security number. They should also provide their company or organization affiliation, mailing and email addresses, and fax and telephone numbers. Persons registered to attend must arrive by 9:30 am at the main entrance to the Department of State at 2201 C St., NW, unless they have made separate arrangements with Ms. Gonzales.

Any person who is unable to attend, but wishes to have his or her views considered, may send comments to Ms. Gonzales at the above fax number or email address, or may address them to the Assistant Legal Adviser for Private International Law (L/PIL), Suite 203, South Building, 2430 E Street, NW Washington, DC, 20037-2851.

Dated: February 14, 2000.
Jeffrey D. Kovar,
Assistant Legal Adviser for Private International Law.

[FR Doc. 00-3984 Filed 2-17-00; 8:45 am]

BILLING CODE 4710-08-P